DEPARTMENT OF COMMERCE

National Oceanic and Atmospheric Administration

[RTID 0648-XA776]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ). Due to federal and state travel restrictions and updated guidance from the Centers for Disease Control and Prevention related to COVID-19, this meeting will be conducted entirely by webinar.

DATES: The webinar meeting will be held on Tuesday, Wednesday, and Thursday, January 26, January 27, and January 28, 2021, beginning at 9 a.m. each day. The first day will start off with a meeting of the Council's Groundfish Committee. When the committee concludes its business and adjourns, the full Council will convene its January 2021 meeting.

ADDRESSES: All meeting participants and interested parties can register to join the webinar at https://attendee.gotowebinar.com/register/2437948643327117067. The Council will use this same webinar link for both the Groundfish Committee meeting and the full Council meeting.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, January 26, 2021

The day will begin with a meeting of the Council's Groundfish Committee, which will: (1) Receive the Groundfish Advisory Panel's latest report; (2) discuss and vote on the last component of Framework Adjustment 61—a proposed universal sector exemption to allow fishing for redfish; (3) receive the Recreational Advisory Panel's latest report; (4) discuss and develop recommendations on fishing year 2021 recreational measures for Gulf of Maine cod and Gulf of Maine haddock; (5) receive a summary of public feedback on developing a strawman proposal for a potential limited entry program for party/charter vessels in the recreational groundfish fishery plus discuss the proposal and next steps; (6) receive an update on work to revise acceptable biological catch (ABC) control rules for groundfish stocks; (7) receive an update on Cod Stock Structure Working Groups; and (8) discuss other business as needed.

Following the lunch break, the Groundfish Committee will continue to work through its agenda. Immediately after the committee adjourns, the full Council will convene to discuss the Groundfish Committee Report and: (1) Take final action on a universal sector exemption to allow fishing for redfish, which is part of Framework Adjustment 61 to the Northeast Multispecies Fishery Management Plan (FMP), and vote to submit the framework to NMFS; and (2) take action on any other issues resulting from Groundfish Committee recommendations. After this discussion, the Council will adjourn for the day.

Wednesday, January 27, 2021

After introductions and brief announcements, the Council will receive reports on recent activities from its Chairman and Executive Director, NMFS's Greater Atlantic Regional Fisheries Office (GARFO) Regional Administrator, the Northeast Fisheries Science Center (NEFSC) Director, the Mid-Atlantic Fishery Management Council liaison, staff from the Atlantic States Marine Fisheries Commission (ASMFC), and representatives from NOAA General Counsel, NOAA's Office of Law Enforcement, the U.S. Coast Guard, and NMFS's Highly Migratory Species Advisory Panel. Next, the Council will hear from the Scallop Committee and receive a brief overview of 2020 Gulf of Maine scallop survey results. Then, the Council will take final action on Framework Adjustment 33 to the Atlantic Sea Scallop FMP, which contains 2021 fishery specifications, 2020 default specifications, measures to mitigate impacts on Georges Bank yellowtail flounder and northern windowpane flounder, plus other measures. Finally, the Council may discuss adding listening or scoping sessions for a limited access leasing program to its list of 2021 scallop priorities. If it does so, the Council also may consider deleting a previously approved scallop priority in exchange.

Following the lunch break, the Council will receive a brief Ecosystem-Based Fishery Management (EBFM) progress report on steps needed to conduct informational workshops about EBFM using public outreach materials, focusing on potential application to a Georges Bank example Fishery Ecosystem Plan (eFEP). The Council then will hear from NEFSC's Northeast Fishery Monitoring and Research Division, which will provide an overview of (1) current division organization; (2) the status of ongoing responsibilities; (3) at-sea monitoring and observer program activities, funding status, and impacts due to COVID-19; and (4) a cooperative research update. Next, the Council will receive a presentation on the Science Center's cost survey for commercial fishing businesses, including: (1) An overview of survey methods and data collected to date; (2) a discussion on challenges and opportunities; and (3) efforts to solicit industry feedback while planning for next cost survey. The Council will close out the day with a report on the Northeast Trawl Advisory Panel's January 14, 2021 meeting.

Thursday, January 28, 2021

The Council will begin the third day of its meeting with a NEFSC presentation on the peer reviewed results of the Index-Based Methods and Control Rules 2020 Research Track Assessment. Next, the Council will discuss small-mesh Northeast multispecies (whiting). First, the Council will take final action on small-mesh multispecies specifications for the 2021-23 fishing years. Second, the Council may discuss adding a 2021 whiting priority to (1) analyze factors for why the northern whiting fishery is not achieving optimum yield (OY), and (2) recommend measures to allow greater resource utilization. The Council also may consider deleting a previously approved whiting priority in exchange for adding a new one if it takes action. Following this discussion, members of the public will have the opportunity to speak during an open comment period on issues that relate to Council business but are not included on the published agenda for this meeting. The Council asks the public to limit remarks to 3-5 minutes. These comments will be received through the webinar. A guide for how to publicly comment through the webinar is available on the Council website at https://s3.amazonaws.com/nefmc.org/NEFMC-meeting-remote-participation_generic.pdf. Next, the Council will receive a brief update on offshore energy development and ongoing/future habitat-related work and priorities. This will be followed by a presentation from NOAA's Greater Atlantic Regional Fisheries Office on North Atlantic right whales. The presentation will cover: (1) The Atlantic Large Whale Take Reduction Plan Draft Environmental Impact Statement (DEIS) and proposed rule; and (2) the Draft Batched Biological Opinion for right whales covering 10 fisheries. The Council will have an opportunity to ask questions and offer comments on these items. The Council then will take up other business, which is when it will briefly discuss and approve a draft letter to NMFS supporting the investigation of using vessel monitoring system (VMS) notifications rather than Federal Register notices to announce area closures for the Atlantic herring fishery. The Council also will discuss other business as needed. Finally, the Council will close out the open portion of its meeting and go into closed session to discuss 2021-23 appointments to the Scientific and Statistical Committee.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is being conducted entirely by webinar. Requests for auxiliary aids should be directed to Thomas A. Nies (see ADDRESSES) at least 5 days prior to the meeting date.

Authority: 16 U.S.C. 1801 et seq.)

Dated: January 5, 2021.
Rey Israel Marquez,
Acting Deputy Director, Office of Sustainable Fisheries, National Marine Fisheries Service.

[FR Doc. 2021-00160 Filed 1-7-21; 8:45 am]

BILLING CODE 3510-22-P